DEPARTMENT OF LABOR

Employment and Training Administration

[TA-W-50,425]

Willing B. Wire Willingboro, New Jersey; Notice of Termination of Investigation

Pursuant to Section 221 of the Trade Act of 1974, as amended, an investigation was initiated on January 2, 2003 in response to petition filed by a state agency representative on behalf of workers at Willing B. Wire, Willingboro, New Jersey.

The petitioner has requested that the petition be withdrawn. Consequently, the investigation has been terminated.

Signed at Washington, DC this 6th day of May, 2003.
Linda G. Poole,
Certifying Officer, Division of Trade Adjustment Assistance.

[FR Doc. 03-12557 Filed 5-19-03; 8:45 am]

BILLING CODE 4510-30-P